DEPARTMENT OF TRANSPORTATION

Federal Aviation Administration

Agency Information Collection Activities: Requests for Comments; Clearance of a New Information Collection: AST Collection of Voluntary Lessons Learned From External Sources

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on July 14, 2010, vol. 75, no. 134, page 40863. The FAA/AST will collect lessons learned from members of the commercial space industry in order to carry out the safety responsibilities in 49 U.S.C. Chapter 701 Section 70103 (c).

DATES: Written comments should be submitted by December 10, 2010.

FOR FURTHER INFORMATION CONTACT: Carla Scott on (202) 267-9895, or by e-mail at: Carla.Scott@faa.gov.

SUPPLEMENTARY INFORMATION: OMB Control Number: 2120-XXXX.

Title: AST Collection of Voluntary Lessons Learned from External Sources.

Form Numbers: There are no FAA forms associated with this collection.

Type of Review: Clearance of a new information collection.

Background: The FAA/AST collects lessons learned from members of the commercial space industry in order to carry out the safety responsibilities in 49 USC Chapter 701 Section 70103 (c). These responsibilities include “encourage, facilitate, and promote the continuous improvement of the safety of launch vehicles designed to carry humans.” The FAA/AST collects and shares lessons learned between members of the amateur rocket community, experimental permit holders, licensed launch and reentry operators, and licensed launch and reentry site operators to ensure the safe and successful outcome of launch activities, allowing AST to meet our public safety goals without creating a regulatory burden.

Respondents: Approximately 20 members of the commercial space industry.

Frequency: Information is collected on occasion.

Estimated Average Burden per Response: 1 hour.

Estimated Total Annual Burden: 30 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 4, 2010.
Carla Scott,
FAA Information Collection Clearance Officer, IT Enterprises Business Services Division, AES-200.

[FR Doc. 2010-28391 Filed 11-9-10; 8:45 am]

BILLING CODE 4910-13-P